DEPARTMENT OF DEFENSE

Department of the Navy

Notice of Intent To Grant Exclusive Patent License; Acambis, Inc.

AGENCY: Department of the Navy, DOD.

ACTION: Notice.

SUMMARY: The Department of the Navy hereby gives notice of its intent to grant to Acambis, Inc., a revocable, nonassignable, exclusive license to practice worldwide the Government-owned inventions described in U.S. Patent application Serial No. 09/439,311, entitled “A Recombinant Polypeptide for Use in the Manufacture of Vaccines Against Campylobacter Induced Diarrhea and to Reduce Colonization” filed November 14, 1998, and its PCT serial number US99/27195 in the field of vaccines against Campylobacter associated disease.

DATES: Anyone wishing to object to the grant of this license has fifteen (15) days from the date of this notice to file written objections along with supporting evidence, if any.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone (301) 319-7428.

Dated: October 15, 2001.
T.J. Welsh,
Lieutenant Commander, Judge Advocate General's Corps, U.S. Navy, Federal Register Liaison Officer.

[FR Doc. 01-26719 Filed 10-23-01; 8:45 am]

BILLING CODE 3810-FF-P